DEPARTMENT OF HEALTH AND HUMAN SERVICES

Food and Drug Administration

21 CFR Part 101

[Docket Nos. 00P-1275 and 00P-1276]

Food Labeling: Health Claims; Plant Sterol/Stanol Esters and Coronary Heart Disease; Correction

AGENCY: Food and Drug Administration, HHS.

ACTION: Interim final rule; correction.

SUMMARY: The Food and Drug Administration (FDA) is correcting an interim final rule that appeared in the Federal Register of September 8, 2000 (65 FR 54686). The interim final rule authorized the use in food labeling of health claims on the association between plant sterol/stanol esters and reduced risk of coronary heart disease (CHD), pending consideration of public comment and publication of a final regulation. The interim final rule was published with inadvertent errors. This document corrects those errors.

DATES: Effective September 8, 2000.

FOR FURTHER INFORMATION CONTACT: James E. Hoadley, Center for Food Safety and Applied Nutrition (HFS-832), 200 C St. SW., Washington, DC 20204, 202-205-5372.

SUPPLEMENTARY INFORMATION: In FR Doc. 00-22892, appearing on page 54686 in the Federal Register of Friday, September 8, 2000, the following corrections are made:

1. On page 54687, in the second column, under the heading, “II. Petitions for Plant Sterol/Stanol Esters and Reduced Risk of CHD,” in the 17th line, the phrase “extension of 30 days” is corrected to read “extension of 28 days”.

2. On page 54687, in the second column, in the 18th line, at the end of the paragraph, the following sentence is added: “This interim final rule went on public display at the Office of the Federal Register on September 5, 2000.”

3. On page 54687, in the second column, in the last sentence of the first full paragraph, the phrase “an extension of the deadline to publish a proposed regulation” is corrected to read “an extension of the deadline for the petition”.

4. On page 54687, in the second column, after the last sentence of the first full paragraph, the following sentence is added: “As previously noted, this interim final rule went on public display at the Office of the Federal Register on September 5, 2000.”

5. On page 54687, in the third column, in the last paragraph, under the heading “a. Plant esterol esters”, beginning in the 4th line, the phrase “esterified to food-grade fatty acids” is corrected to read “esterified with food-grade fatty acids”.

6. On page 54688, in the second column, under the heading “b. Plant stanol esters”, beginning in the 4th line, the phrase “esterified to food-grade fatty acids” is corrected to read “esterified with food-grade fatty acids”.

7. On page 54693, in the first column, in the first full paragraph, in the 17th line, the phrase “esterified to sunflower oil” is corrected to read “esterified with sunflower oil”.

8. On page 54693, in the third column, in the first full paragraph, in the 35th line, the symbol “N” is corrected to read “n”.

9. On page 54715, in the third column, in Ref. 37, the phrase “London: Academic” is corrected to read “London: Academic Press”.

10. On page 54716, in the first and second columns, in Refs. 60 and 63, the word “Atheroscelrosis” is corrected to read “Atherosclerosis”.

11. On page 54717, in the second column, in Ref. 102, the word “IsokaAE4aAE4ntaAE4” is corrected to read “Isokaanta”.

§ 101.83 [Corrected]

The following corrections are made in § 101.83 Health claims: plant sterol/stanol esters and risk of coronary heart disease (CHD).

12. On page 54718, in the second column, in paragraph (c)(2)(ii)(A)(2), in the 4th line, the phrase “February 1, 2000, the method,” is corrected to read “February 1, 2000. The method,”.

13. On page 54719, in the second column, in paragraph (e)(1)(i), and in the third column, in paragraphs (e)(1)(ii), (e)(2)(i), and (e)(2)(ii), the phrase “serving of [name of the food] supplies grams” is corrected to read “serving of [name of the food] supplies ___ grams”.

Dated: November 20, 2000.
Margaret M. Dotzel,
Associate Commissioner for Policy.

[FR Doc. 00-30045 Filed 11-21-00; 9:47 am]

BILLING CODE 4160-01-F